ENVIRONMENTAL PROTECTION AGENCY

[EPA-HQ-OA-2023-0030, FRL-11537-01-OA]

Notice of Meeting of the EPA Children's Health Protection Advisory Committee (CHPAC)

AGENCY: Environmental Protection Agency (EPA).

ACTION: Notice of meeting.

SUMMARY: Pursuant to the provisions of the Federal Advisory Committee Act, notice is hereby given that the next meeting of the Children's Health Protection Advisory Committee (CHPAC) will be held virtually and in-person on December 13 and 14, 2023 at the U.S. Environmental Protection Agency (EPA) Headquarters located at 1200 Pennsylvania Avenue NW, Washington, DC 20460. The CHPAC advises the EPA on science, regulations and other issues relating to children's environmental health.

DATES: Meeting dates are December 13, 2023, from 10:00 a.m. to 5:00 p.m. and December 14, 2023, from 10:00 a.m. to 3:30 p.m. (EST).

ADDRESSES:

Virtual Public Meeting: You must register online to receive the webcast meeting link and audio teleconference information. Please follow the registration instructions that will be announced on the CHPAC website at: https://www.epa.gov/children/chpac by December 1, 2023.

Written Comments: Submit written comments, identified by docket identification (ID) number EPA-HQ-OA-2023-0030, through the Federal eRulemaking Portal at https://www.regulations.gov. Follow the online instructions for submitting comments. Comments should be submitted on or before December 7, 2023. Anyone submitting written comments after this date should contact Amelia Nguyen, listed under FOR FURTHER INFORMATION CONTACT. Do not electronically submit any information you consider to be Confidential Business Information (CBI; broadly defined as proprietary information, considered confidential to the submitter, the release of which would cause substantial business injury to the owner) or other information whose disclosure is restricted by statute. Additional information on commenting or visiting the docket, along with more information about dockets generally, is available at https://www.epa.gov/dockets.

Special Accommodations: For information on access or services for individuals with disabilities, and to request accommodation for a disability, please contact Amelia Nguyen, listed under FOR FURTHER INFORMATION CONTACT.

FOR FURTHER INFORMATION CONTACT: Amelia Nguyen, Office of Children's Health Protection, U.S. EPA, MC 1107T, 1200 Pennsylvania Avenue NW, Washington, DC 20460, (202) 564-4268, or nguyen.amelia@epa.gov.

SUPPLEMENTARY INFORMATION: The meetings of the CHPAC are open to the public. An agenda will be posted to https://www.epa.gov/children/chpac.

Amelia Nguyen,
Biologist, Office of Children's Health Protection.

[FR Doc. 2023-24779 Filed 11-8-23; 8:45 am]

BILLING CODE 6560-50-P